CONSUMER PRODUCT SAFETY COMMISSION

Sunshine Act Meeting

TIME AND DATE: Wednesday, January 26, 2022, 10:00-11:00 a.m.

PLACE: This meeting will be held remotely.

STATUS: Commission Meeting—Open to the Public.

Matters To Be Considered: Decisional Matter:

Final Rule: Safety Standard for Crib Mattresses

All attendees and participants should pre-register for the Commission meeting (Webinar). To pre-register for the Webinar, please visit https://attendee.gotowebinar.com/register/9089674042451601677 and fill in the information. After registering you will receive a confirmation email containing information about joining the webinar.

CONTACT PERSON FOR MORE INFORMATION: Alberta E. Mills, Office of the Secretary, U.S. Consumer Product Safety Commission, 4330 East-West Highway, Bethesda, MD 20814, 301-504-7479 (Office) or 240-863-8938 (Cell).

Dated: January 19, 2022.
Alberta E. Mills,
Commission Secretary.

[FR Doc. 2022-01355 Filed 1-20-22; 11:15 am]

BILLING CODE 6355-01-P